FEDERAL COMMUNICATIONS COMMISSION

[CC Docket No. 92-237; DA 02-2933]

Next Meeting of the North American Numbering Council

AGENCY: Federal Communications Commission.

ACTION: Notice.

SUMMARY: On October 31, 2002, the Commission released a public notice announcing the November 19-20, 2002 meeting and agenda of the North American Numbering Council (NANC). The intended effect of this action is to make the public aware of the NANC's next meeting and its agenda.

FOR FURTHER INFORMATION CONTACT: Deborah Blue, Special Assistant to the Designated Federal Officer (DFO) at (202) 418-1466 or dblue@fcc.gov. The address is: Telecommunications Access Policy Division, Wireline Competition Bureau, Federal Communications Commission, The Portals II, 445 12th Street, SW., Suite 5-A420, Washington, DC 20554. The fax number is: (202) 418-2345. The TTY number is: (202) 418-0484.

SUPPLEMENTARY INFORMATION: Released: October 31, 2002.

The North American Numbering Council (NANC) has scheduled a meeting to be held Tuesday, November 19, 2002, from 9 a.m. until 5 p.m., and on Wednesday, November 20, 2002, from 8:30 a.m., until 12 noon (if required). The meeting will be held at the Federal Communications Commission, Portals II, 445 12th Street, SW., Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda—Tuesday, November 19, 2002, 9 a.m.

1. Announcements and Recent News

2. Approval of Minutes

—Meeting of September 24-25, 2002

3. Report of the North American Numbering Plan Administrator (NANPA)

4. Report of Oversight Working Group

—Review of Change Orders

—Comparison of PAS vs. specification

—2002 Performance Survey

—Performance Improvement Plan

5. NANC October 23, 2002 letter to FCC re: Waiver of Pooling Grandfathered Codes Outside NPA

6. Report of National Thousands Block Pooling Administrator

—Response to OWG review of PAS vs. specification

7. Report of Contamination Threshold IMG

—Draft of recommendation due to FCC by December 13, 2002

8. Status of Industry Numbering Committee activities

9. Report of NANP Expansion/Optimization IMG

10. Report of Intermediate Numbering/Soft Dial Tone IMG

11.Report of the Local Number Portability Administration (LNPA) Working Group

—Wireless Number Portability Operations (WNPO) Subcommittee

12. Report of NAPM LLC

13. Report from NBANC

14. Report of Cost Recovery Working Group

15. Report of E-Conferencing Working Group

16. Steering Committee

—Table of NANC Projects

17. Report of Steering Committee

18. Summary of Action Items

19. Public Comments and Participation (5 minutes per speaker)

20. Other Business

Adjourn no later than 5 p.m.

Wednesday, November 20, 2002—8:30 a.m., If Required

21. Complete any unfinished agenda items.

22. Other Business

Adjourn no later than 12 Noon.

Next Meeting: Wednesday, January 22, 2003.

Federal Communications Commission.
Cheryl L. Callahan,
Assistant Chief, Telecommunications Access Policy Division, Wireline Competition Bureau.

[FR Doc. 02-28060 Filed 11-4-02; 8:45 am]

BILLING CODE 6712-01-P